NATIONAL SCIENCE FOUNDATION

Public Availability of the National Science Foundation FY 2011 Service Contract Inventory

AGENCY: National Science Foundation.

ACTION: Notice of Public Availability of FY 2011 Service Contract Inventories.

SUMMARY: In accordance with Section 743 of Division C of the Consolidated Appropriations Act of 2010 (Pub. L. 111-117), the National Science Foundation is publishing this notice to advise the public of the availability of the FY 2011 Service Contract inventory. This inventory provides information on service contract actions over $25,000 that were made in FY 2011. The information is organized by function to show how contracted resources are distributed throughout the agency. The inventory has been developed in accordance with guidance issued on November 5, 2010 and December 19, 2011 by the Office of Management and Budget's Office of Federal Procurement Policy (OFPP). OFPP's guidance is available at http://www.whitehouse.gov/sites/default/files/omb/procurement/memo/service-contract-inventories-guidance-11052010.pdf and http://www.whitehouse.gov/sites/default/files/omb/procurement/memo/service-contract-inventory-guidance.pdf. The National Science Foundation has posted its inventory and a summary of the inventory on the National Science Foundation homepage at the following link: http://www.nsf.gov/publications/pub_summ.jsp?ods_key=nsf12038.

FOR FURTHER INFORMATION CONTACT: Questions regarding the service contract inventory should be directed to Richard Pihl in the BFA/DACS at (703) 292-7395 or rpihl@nsf.gov.

Dated: January 30, 2012.
Suzanne Plimpton,
Reports Clearance Officer, National Science Foundation.

[FR Doc. 2012-2330 Filed 2-1-12; 8:45 am]

BILLING CODE 7555-01-P